DEPARTMENT OF HOMELAND SECURITY

Agency Information Collection Activities; Submission to the Office of Management and Budget for Review and Approval; Comment Request; SAFECOM Membership Questionnaire

AGENCY: Cybersecurity and Infrastructure Security Agency (CISA), Department of Homeland Security (DHS).

ACTION: 30-Day notice of information collection; request for comment; reinstatement, with change, of a previously approved collection for which approval has expired.

SUMMARY: The Emergency Communications Division (ECD) within Cybersecurity and Infrastructure Security Agency (CISA) submits the following information collection request (ICR) to the Office of Management and Budget (OMB) for review and clearance. CISA previously published this information collection request (ICR) in the Federal Register on May 26, 2025, for a 60-day public comment period. Zero comments were received by CISA. The purpose of this notice is to allow an additional 30 days for public comments.

DATES: Comments are encouraged and will be accepted until September 29, 2025.

Submissions received after the deadline for receiving comments may not be considered.

ADDRESSES: You may submit comments, identified by docket number CISA-2025-0005, by one of the following methods:

• Federal eRulemaking Portal: http://www.regulations.gov. Please follow the instructions for submitting comments.

• Instructions: All submissions received must include the words “Department of Homeland Security” and the docket number for this action. Comments received will be posted without alteration at http://www.regulations.gov, including any personal information provided.

Comments submitted in response to this notice may be made available to the public through relevant websites. For this reason, please do not include in your comments information of a confidential nature, such as sensitive personal information or proprietary information. If you send an email comment, your email address will be automatically captured and included as part of the comment that is placed in the public docket and made available on the internet. Please note that responses to this public comment request containing any routine notice about the confidentiality of the communication will be treated as public comments that may be made available to the public notwithstanding the inclusion of the routine notice.

FOR FURTHER INFORMATION CONTACT: For specific questions related to collection activities, please contact Ralph Barnett III, at (703) 705-6130, or email at SAFECOMGovernance@hq.dhs.gov.

SUPPLEMENTARY INFORMATION: On November 16, 2018, Congress passed Public Law 115-278, to amend the Homeland Security Act of 2002 (6 U.S.C. 101 et seq.), enacted and authorized the Cybersecurity and Infrastructure Security Agency (CISA) of the Department of Homeland Security (DHS). CISA enhances public safety interoperable communications at all levels of government to help partners across the country develop their emergency communications capabilities. Working with stakeholders across the country, CISA conducts extensive, nationwide outreach to support and promote the ability of emergency response providers and relevant government officials to continue to communicate in the event of a natural disaster, act of terrorism, or other man-made disaster. 6 U.S.C. 571(c)(2) mandates DHS through CISA to administer and manage the Department's authorities and responsibilities relating to the SAFECOM program, a state, local, tribal, and territorial stakeholder-driven public safety communications program. In an effort to resolve major communications issues identified during the September 11, 2001 terrorist attacks, SAFECOM was created as a Presidential E Government Initiative to improve interoperability, allowing emergency responders to communicate more effectively before, during, and after emergencies and disasters.

Through collaboration with emergency responders and elected officials across all levels of government, SAFECOM works to improve emergency response providers' inter-jurisdictional and interdisciplinary emergency communications interoperability across local, regional, tribal, State, territorial, international borders, and with Federal government entities. SAFECOM works with existing Federal communications programs and key emergency response stakeholders to address the need to develop better technologies and processes for the coordination of existing communications systems and future networks.

The SAFECOM Membership Questionnaire is an internal SAFECOM document disseminated only to active SAFECOM Members. SAFECOM uses the Questionnaire to identify membership gaps, obtain updated information on SAFECOM's membership body (e.g., public safety communications experience, accolades, acquired skills/certifications, etc.), update SAFECOM marketing materials, and to assist SAFECOM when responding to General Accounting Office (GAO) inquiries.

The DHS/CISA/ECD will disseminate the SAFECOM Membership Questionnaire to active SAFECOM Members as a fillable PDF document. SAFECOM intends to use the Questionnaire to examine its Membership body, identify membership gaps, obtain updated information on SAFECOM's membership body (e.g., public safety communications experience, accolades, acquired skills/certifications, etc.), update SAFECOM marketing materials, and assist SAFECOM when responding to General Accounting Office (GAO) inquiries.

The Questionnaire will encompass eight interdependent sections of questions. The SAFECOM Internal Membership section requests each Member to provide their name, state of residence, and the number of hours per month he/she contributes to SAFECOM-led initiatives (e.g., conference calls and deliverable development). SAFECOM consists of public safety association representatives and at-large members. The Association Representative Information section pertains to public safety associations represented in SAFECOM. Association Representatives serving in SAFECOM are asked to provide the name of their Association, approximate Association size, Association contact, and addition Association point-of-contact (POC) information. At-large members are instructed to skip to the next section. Public Safety Service section will focus on questions related to each Member's public safety and first responder career. Members are asked to designate their current public safety status (i.e., active, retired, other), to identify their public safety discipline(s), to provide level of government for current employment (e.g., state, local, tribal, territorial, federal), to provide years of service, to list current agency and agency's contact information, to provide a brief description on their current role and responsibilities, to select the population range that best describes the population of their current organization's jurisdiction serviced, to indicate the number of public safety personnel employed at their current organization, to indicate the number of responses your current organization responds to each year, and if current position entails collaborating with Tribal Nations. The Volunteer Experience section asks Members to provide details on their volunteer experience. The Public Safety Experience section asks Members to identify the public safety events he/she responded to throughout their career, and to identify the communications technology he/she has used. The Education section focuses on the education (e.g., which is an optional question), proficiencies, and professional certifications. The external Conference Attendance section focuses on Members' experience at public safety conferences as well as their interest in representing SAFECOM in the future at a conference. The final section focuses on Members' public safety usage.

This information collection request was previously approved by OMB on 07/21/2022 with an expiration date of 07/31/2025. This is a request for an extension to continue the same collection.

The Office of Management and Budget is particularly interested in comments which:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

Analysis

Agency: Cybersecurity and Infrastructure Security Agency (CISA), Department of Homeland Security (DHS).

Title: SAFECOM Membership Questionnaire.

OMB Number: 1670-0046.

Frequency: Annually.

Affected Public: State, Local, Tribal, and Territorial Governments.

Number of Respondents: 36.

Estimated Time per Respondent: 0.25 hours.

SLTT Burden Hours: 9 hours.

Annualized SLTT Respondent Cost: $847.82.

Affected Public: Private Sector.

Number of Respondents: 55.

Estimated Time per Respondent: 0.25 hours.

Total Burden Hours: 13.75 hours.

Annualized Private Sector Respondent Cost: $1,314.58.

Total Annualized Respondent Cost: $2,162.39.

Total Annualized Government Cost: $268.75.

Robert J. Costello,
Chief Information Officer, Department of Homeland Security, Cybersecurity and Infrastructure Security Agency.

[FR Doc. 2025-16490 Filed 8-27-25; 8:45 am]

BILLING CODE 9111-LF-P